COMMISSION ON CIVIL RIGHTS

Agenda and Notice of Public Meeting of the District of Columbia Advisory Committee

Notice is hereby given, pursuant to the provisions of the rules and regulations of the U.S. Commission on Civil Rights (Commission), and the Federal Advisory Committee Act (FACA) that an orientation and planning meeting of the District of Columbia Advisory Committee will convene at 12 p.m. on Tuesday, April 10, 2012, at the U.S. Commission on Civil Rights, 624 Ninth Street NW., Conference Room 540, Washington, DC 20425. The purpose of the orientation meeting is to review the rules of operation for the Advisory Committee. The purpose of the planning meeting is to plan future activities.

Members of the public are entitled to submit written comments. The comments must be received in the regional office by Thursday, May 10, 2012. Comments may be mailed to the Eastern Regional Office, U.S. Commission on Civil Rights, 624 9th Street NW., Suite 740, Washington, DC 20425, faxed to (202) 376-7548, or emailed to ero@usccr.gov. Persons who desire additional information may also contact the Eastern Regional Office at 202-376-7533.

Persons needing accessibility services should contact the Eastern Regional Office at least ten (10) working days before the scheduled date of the meeting.

Records generated from this meeting may be inspected and reproduced at the Eastern Regional Office, as they become available, both before and after the meeting. Persons interested in the work of this advisory committee are advised to go to the Commission's Web site, www.usccr.gov, or to contact the Eastern Regional Office at the above email or street address or phone number.

The meeting will be conducted pursuant to the provisions of the rules and regulations of the Commission and FACA.

Dated in Washington, DC, March 12, 2012.
Peter Minarik,
Acting Chief, Regional Programs Coordination Unit.

[FR Doc. 2012-6376 Filed 3-15-12; 8:45 am]

BILLING CODE 6335-01-P